SMALL BUSINESS ADMINISTRATION

[Declaration of Disaster #3250]

State of Texas

As a result of the President's major disaster declaration on April 7, 2000, I find that Tarrant County, Texas constitutes a disaster area due to damages caused by severe storms, tornadoes, and flooding that occurred March 28-29, 2000. Applications for loans for physical damage as a result of this disaster may be filed until the close of business on June 6, 2000, and for loans for economic injury until the close of business on January 8, 2001 at the address listed below or other locally announced locations: U.S. Small Business Administration, Disaster Area 3 Office, 4400 Amon Carter Blvd., Suite 102, Fort Worth, TX 76155.

In addition, applications for economic injury loans from small businesses located in the following contiguous counties in Texas may be filed until the specified date at the above location: Dallas, Denton, Ellis, Johnson, Parker, and Wise.

The interest rates are:

| Percent
For Physical Damage:
Homeowners with credit available elsewhere | 7.625
Homeowners without credit available elsewhere | 3.812
Businesses with credit available elsewhere | 8.000
Businesses and non-profit organizations without credit available elsewhere | 4.000
Others (including non-profit organizations) with credit available elsewhere | 6.750
For Economic Injury:
Businesses and small agricultural cooperatives without credit available elsewhere | 4.000

The number assigned to this disaster for physical damage is 325012 and for economic injury the number is 9H0900.

(Catalog of Federal Domestic Assistance Program Nos. 59002 and 59008)

Dated: April 13, 2000.
James E. Rivera,
Acting Associate Administrator for Disaster Assistance.

[FR Doc. 00-10020 Filed 4-20-00; 8:45 am]

BILLING CODE 8025-01-U